DEPARTMENT OF ENERGY

Federal Energy Regulatory Commission

[Docket No. EL06-81-000]

Southern Company Services, Inc.; Notice of Institution of Proceeding and Refund Effective

July 21, 2006.

On July 20, 2006, the Commission issued an order that instituted a proceeding in Docket No. EL06-81-000, pursuant to section 206 of the Federal Power Act (FPA), 16 U.S.C. 824e (2005), to provide Southern Company Services, Inc. a forum in which to address issues raised in Southern's request for rehearing filed August 30, 2004, in Docket No. ER04-563-002. Southern Company Services, Inc., 116 FERC 61,050 (2006).

The refund effective date in Docket No. EL06-81-000, established pursuant to section 206(b) of the FPA, will be the date of publication of this notice in the Federal Register.

Magalie R. Salas,
Secretary.

[FR Doc. E6-12243 Filed 7-28-06; 8:45 am]

BILLING CODE 6717-01-P